NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by November 1, 2021. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Polly Penhale, ACA Permit Officer, at the above address, 703-292-8030.

SUPPLEMENTARY INFORMATION: The National Science Foundation, as directed by the Antarctic Conservation Act of 1978 (Publ. L. 95-541, 45 CFR 671), as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2022-010

1. Applicant: Dr. John Durban, 446 Harbor Vista Drive Friday Harbor, WA 98250.

Activity for Which Permit Is Requested: Take, Import into the U.S.A. The Applicant seeks an Antarctic Conservation Act permit for continued research activities studying the health of whale populations in the Southern Ocean and impacts of environmental changes on Antarctic marine ecosystems. The applicant will use aerial photogrammetry to collect data on whale morphometrics and health. The applicant proposes to use unoccupied aerial systems (UAS), particularly small, radio-controlled hexacopters, for aerial photogrammetry, and to use handheld cameras for photo-identification. The hexacopters will be flown greater than 100 ft above the whales for identification and assessment purposes. The applicant also proposes use of the UAS to collect respiratory (blow) samples of commonly encountered whales to aid in understanding of cetacean microbiomes and respiratory health. This data will be supplemented by the collection of remote biopsy samples of whale skin and blubber, which will provide more detailed information on cetacean diet and contribute to genetic understanding of whale populations in the Southern Ocean. Additionally, opportunistic samples of dead marine mammals may be salvaged by the applicant to further understanding of killer whale diet and ecology. Samples will be imported into the United States for analysis and ultimate disposition at the Southwest Fisheries Science Center.

Location: Antarctic Peninsula Region, Southern Ross Sea region.

Dates of Permitted Activities: December 1, 2021-April 30, 2026.

Erika N. Davis,
Program Specialist, Office of Polar Programs.

[FR Doc. 2021-21201 Filed 9-29-21; 8:45 am]

BILLING CODE 7555-01-P